DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory and Deregulatory Agenda is a semiannual summary of all current and projected rulemakings, reviews of existing regulations, and completed actions of the Department. The intent of the Agenda is to provide the public with information about the Department of Transportation's regulatory activity planned for the next 12 months. It is expected that this information will enable the public to participate more effectively in the Department's regulatory process. The public is also invited to submit comments on any aspect of this Agenda.

FOR FURTHER INFORMATION CONTACT:

General

You should direct all comments and inquiries on the Agenda in general to Daniel Cohen, Assistant General Counsel for Regulation, Office of General Counsel, Department of Transportation, 1200 New Jersey Avenue SE, Washington, DC 20590; (202) 366-4702.

Specific

You should direct all comments and inquiries on items in the Agenda to the individual listed for the regulation or the general rulemaking contact person for the operating administration in appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

The U.S. Department of Transportation (Department or DOT) issues regulations for the primary purpose of ensuring the United States transportation system is the safest and most efficient in the world. In designing these regulations, the Department seeks to address the urgent challenges facing the Nation. These challenges include the coronavirus disease 2019 (COVID-19) pandemic, economic recovery, racial justice, and climate change.

To help the Department achieve its goals and in accordance with Executive Order (E.O.) 12866, “Regulatory Planning and Review,” (58 FR 51735; Oct. 4, 1993), the Department prepares a semiannual Agenda. The Agenda summarizes all current and projected rulemakings, reviews of existing regulations, and completed actions of the Department. These are matters on which action has begun or is projected to begin during the next 12 months or for which action has been completed since the publication of the last Agenda in December 2020.

In addition, this Agenda was prepared in accordance with two executive orders issued by the President, which direct agencies to utilize all available regulatory tools to address current national challenges. On January 20, 2021, the President signed Executive Order 13992, Revocation of Certain Executive Orders Concerning Federal Regulation. This Executive Order directs Federal agencies to promptly take steps to rescind any orders, rules, regulations, guidelines, or policies that would hamper the agencies' flexibility to use robust regulatory action to address national priorities. On January 20, the President also issued Executive Order 13990, Protecting Public Health and the Environment and Restoring Science to Tackle the Climate Crisis. This Executive Order directs Federal agencies to review all regulatory actions issued in the previous Administration and revise or rescind any of those actions that do not adequately respond to climate change, protect the environment, advance environmental justice, or improve public health. Section 2(ii) of the Executive Order specifically requires the Department of Transportation to review by April 2021 “The Safer Affordable Fuel-Efficient (SAFE) Vehicles Rule Part One: One National Program,” 84 FR 51310 (September 27, 2019). This section of the Executive Order also requires the Department to review by July 2021 “The Safer Affordable Fuel-Efficient (SAFE) Vehicles Rule for Model Years 2021-2026 Passenger Cars and Light Trucks,” 85 FR 24174 (April 30, 2020). The Secretary of Transportation has also directed NHTSA to review these fuel economy rules.

In response to these Executive Orders, the Department is currently revising regulations and orders governing its regulatory process to ensure that it has the maximum flexibility necessary to quickly respond to the urgent challenges facing our Nation. The Department is also in the process of reviewing the fuel economy rules identified in Executive Order 13990, and as directed by the Secretary, anticipates moving expeditiously to revise the rules to ensure that our vehicle emission standards fully respond to climate change, as well as protect the environment and public health. In addition to the fuel economy rules, the Department is also reviewing all rules to see whether they need to be revised or rescinded to address the issues identified in Executive Order 13990.

In addition to the pressing national concerns discussed above, the Department's regulatory activities are directed toward the fundamental principle of protecting public safety. Safety is our highest priority; the Department remains focused on managing safety risks and ensuring that the United States has the safest transportation system in the world. Our planned regulatory actions reflect a careful balance that emphasizes the Department's robust response to the challenges facing our Nation while at the same time maintaining a safe, reliable, and sustainable transportation system that boosts prosperity and enhances the quality of life of all Americans.

The Department is also providing rapid response and emergency review of legal and operational challenges presented by COVID-19 within the transportation network. Since the beginning of this Administration, our efforts have focused on ensuring compliance with the mask requirements issued by the Centers for Disease Control and Prevention and the Transportation Security Administration. These requirements will help reduce the spread of the COVID-19 disease within the transportation sector and among the traveling public. DOT is also addressing regulatory compliance made impracticable by the COVID-19 public health emergency due to office closures, personnel shortages, and other restrictions.

Explanation of Information in the Agenda

An Office of Management and Budget memorandum, dated February 17, 2021, establishes the format for this Agenda.

First, the Agenda is divided by initiating offices. Then the Agenda is divided into five categories: (1) Prerule stage; (2) proposed rule stage; (3) final rule stage; (4) long-term actions; and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the documents being considered. ANPRM stands for Advance Notice of Proposed Rulemaking, SNPRM for Supplemental Notice of Proposed Rulemaking, and NPRM for Notice of Proposed Rulemaking. Listing a future date in this column does not mean we have decided to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. However, a portion of the Agenda is published in the Federal Register because the Regulatory Flexibility Act (5 U.S.C. 602) mandates publication for the regulatory flexibility agenda. Accordingly, DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

DOT's Agenda is intended primarily for the use of the public. Since its inception, the Department has made modifications and refinements that provide the public with more helpful information, as well as making the Agenda easier to use. We would like you, the public, to make suggestions or comments on how the Agenda could be further improved.

Regulatory Flexibility Act

The Department is interested in obtaining information on requirements that have a “significant economic impact on a substantial number of small entities” and, therefore, must be reviewed under the Regulatory Flexibility Act. If you have any suggested regulations, please submit them to the Department, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require the Department to develop an account process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department about any specific item on the Agenda. Regulatory action, in addition to the items listed, is not precluded.

Dated: March 17, 2021.
Peter Paul Montgomery Buttigieg,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the internet at http://www.regulations.gov. See appendix C for more information.

Appendix B—General Rulemaking Contact Persons

The following is a list of persons who can be contacted within the Department for general information concerning the rulemaking process within the various operating administrations.

FAA—Brandon Roberts, Executive Director, Office of Rulemaking, 800 Independence Avenue SW, Washington, DC 20591; telephone (202) 267-9677.

FHWA—Jennifer Outhouse, Office of Chief Counsel, 1200 New Jersey Avenue SE, Washington, DC 20590; telephone (202) 366-0761.

FMCSA—Steven J. LaFreniere, Regulatory Ombudsman, 1200 New Jersey Avenue SE, Washington, DC 20590; telephone (202) 366-0596.

NHTSA—Dee Fujita, Office of Chief Counsel, 1200 New Jersey Avenue SE, Washington, DC 20590; telephone (202) 366-2992.

FRA—Amanda Maizel, Office of Chief Counsel, 1200 New Jersey Avenue SE, Washington, DC 20590; telephone (202) 493-8014.

FTA—Chaya Koffman, Office of Chief Counsel, 1200 New Jersey Avenue E, Washington, DC 20590; telephone (202) 366-3101.

GLS—Carrie Mann Lavigne, Chief Counsel, 180 Andrews Street, Massena, NY 13662; telephone (315) 764-3200.

PHMSA—Robert Ross, Office of Chief Counsel, 1200 New Jersey Avenue SE, Washington, DC 20590; telephone (202) 768-1365.

MARAD—Gabriel Chavez, Office of Chief Counsel, Maritime Administration, 1200 New Jersey Avenue SE, Washington, DC 20590; telephone (202) 366-2621.

OST—Daniel Cohen, Assistant General Counsel for Regulation, 1200 New Jersey Avenue SE, Washington, DC 20590; telephone (202) 366-4723.

Appendix C—Public Rulemaking Dockets

All comments submitted via the internet are submitted through the Federal Docket Management System (FDMS) at the following address: http://www.regulations.gov. The FDMS allows the public to search, view, download, and comment on all Federal agency rulemaking documents in one central online system. The above referenced internet address also allows the public to sign up to receive notification when certain documents are placed in the dockets.

The public also may review regulatory dockets at or deliver comments on proposed rulemakings to the Dockets Office at 1200 New Jersey Avenue SE, Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. DOT also has responsibilities under Executive Order 12866, “Regulatory Planning and Review,” Executive Order 13563, “Improving Regulation and Regulatory Review,” 76 FR 3821 (January 18, 2011), and section 610 of the Regulatory Flexibility Act to conduct such reviews. We are committed to continuing our reviews of existing rules and, if it is needed, will initiate rulemaking actions based on these reviews. The Department began a new 10-year review cycle with the Fall 2018 Agenda.

Section 610 Review Plan

Section 610 requires that we conduct reviews of rules that: (1) Have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Most agencies provide historical information about the reviews that have occurred over the past 10 years. Thus, Year 1 (2018) begins in the fall of 2018 and ends in the fall of 2019; Year 2 (2019) begins in the fall of 2019 and ends in the fall of 2020, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have? Any comments concerning the plan or analyses should be submitted to the regulatory contacts listed in appendix B, General Rulemaking Contact Persons.

Section 610 Review

The agency will analyze each of the rules in each year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to the Department early in the analysis year concerning the small entity impact of the rules to help us in making our determinations.

In each Fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, DOT will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each Fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 14 CFR parts 200 through 212 48 CFR parts 1201 through 1224 | 2018 | 2019
2 | 48 CFR parts 1227 through 1253 and new parts and subparts | 2019 | 2020
3 | 14 CFR parts 213 through 232 | 2020 | 2021
4 | 14 CFR parts 234 through 254 | 2021 | 2022
5 | 14 CFR parts 255 through 298 and 49 CFR part 40 | 2022 | 2023
6 | 14 CFR parts 300 through 373 | 2023 | 2024
7 | 14 CFR parts 374 through 398 | 2024 | 2025
8 | 14 CFR part 399 and 49 CFR parts 1 through 15 | 2025 | 2026
9 | 49 CFR parts 17 through 28 | 2026 | 2027
10 | 49 CFR parts 29 through 39 and parts 41 through 89 | 2027 | 2028

Year 1 (Fall 2018) List of Rules That Are Under Ongoing Analysis

49 CFR part 91—International Air Transportation Fair Competitive Practices

49 CFR part 92—Recovering Debts to the United States by Salary Offset

• Section 610: OST conducted a Section 610 review of this part and found no SEISNOSE.

• General: The agency is aware of several outdated references to operating administrations within the Department that need to be updated. OST's plain language review of these rules indicates no need for substantial revision.

49 CFR part 93—Aircraft Allocation

49 CFR part 98—Enforcement of Restrictions on Post-Employment Activities

49 CFR part 99—Employee Responsibilities and Conduct

14 CFR part 200—Definitions and Instructions

14 CFR part 201—Air Carrier Authority under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1212— [Reserved]

48 CFR part 1213—Simplified Acquisition Procedures

48 CFR part 1214—Sealed Bidding

48 CFR part 1215—Contracting by Negotiation

48 CFR part 1216—Types of Contracts

48 CFR part 1217—Special Contracting Methods

48 CFR part 1218—[Reserved]

48 CFR part 1219—Small Business Programs

48 CFR part 1220-1221—[Reserved]

48 CFR part 1222—Application of Labor Laws to Government Acquisitions

48 CFR part 1223—Environment, Energy and Water Efficiency, Renewable Energy Technologies, Occupational Safety, and Drug-Free Workplace

48 CFR part 1224—Protection of Privacy and Freedom of Information

Year 2 (Fall 2019) List of Rules Analyzed and Summary of Results

48 CFR parts 1227 through 1253 and new parts and subparts

48 CFR part 1227—Patents, Data, and Copyrights

48 CFR part 1228—Bonds and Insurance

48 CFR part 1231—Contract Costs Principles and Procedures

48 CFR part 1232—Contract Financing

48 CFR part 1233—Protests, Disputes, and Appeals

48 CFR part 1235—Research and Development Contracting

48 CFR part 1236—Construction and Architect-Engineer Contracts

48 CFR part 1237—Service Contracting

48 CFR part 1239—Acquisition of Information Technology

48 CFR part 1242—Contract Administration and Audit Services

48 CFR part 1245—Government Contracting

48 CFR part 1246—Quality Assurance

48 CFR part 1247—Transportation

48 CFR part 1252—Solicitation Provisions and Contract Clauses

48 CFR part 1253—Forms

DOT has determined that updates need to be made to the regulations identified under Year 2. The regulations will be updated as part of RIN 2105-AE26 (Revisions to the Transportation Acquisition Regulations).

Federal Aviation Administration

Section 610 and Other Reviews

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with section 610(b) to determine if it should be continued without change or changed to minimize impact on small entities. Results of those reviews will be published in the DOT Semiannual Regulatory Agenda.

Year | Regulations to be reviewed | Analysis year | Review year
1 | 14 CFR parts 141 through 147 and parts 170 through 187 | 2020 | 2021
2 | 14 CFR parts 189 through 198 and parts 1 through 16 | 2021 | 2022
3 | 14 CFR parts 17 through 33 | 2022 | 2023
4 | 14 CFR parts 34 through 39 and parts 400 through 405 | 2023 | 2024
5 | 14 CFR parts 43 through 49 and parts 406 through 415 | 2024 | 2025
6 | 14 CFR parts 60 through 77 | 2025 | 2026
7 | 14 CFR parts 91 through 107 | 2026 | 2027
8 | 14 CFR parts 417 through 460 | 2027 | 2028
9 | 14 CFR parts 119 through 129 and parts 150 through 156 | 2028 | 2029
10 | 14 CFR parts 133 through 139 and parts 157 through 169 | 2029 | 2030

Defining SEISNOSE for FAA Regulations

The RFA does not define “significant economic impact.” Therefore, there is no clear rule or number to determine when a significant economic impact occurs. However, the Small Business Administration (SBA) states that significance should be determined by considering the size of the business, the size of the competitor's business and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

1. Review of the number of small entities affected by the amendments to parts 141 through 147 and parts 170 through 187.

2. Identification and analysis of all amendments to parts 141 through 147 and parts 170 through 187 since July 2010 to determine whether any still have or now have a SEISNOSE.

3. Review of the FAA's regulatory flexibility assessment of each amendment performed as required by the RFA.

Year 2—List of Rules To Be Analyzed Next Year (2021)

14 CFR part 1—Definitions and abbreviations

14 CFR part 3—General requirements

14 CFR part 11—General rulemaking procedures

14 CFR part 13—Investigative and enforcement procedures

14 CFR part 14 —Rules implementing the Equal Access to Justice Act of 1980

14 CFR part 15—Administrative claims under Federal Tort Claims Act

14 CFR part 16—Rules of practice for Federally-assisted airport enforcement proceedings

14 CFR part 189—Use of Federal Aviation Administration communications system

14 CFR part 193—Protection of voluntarily submitted information

14 CFR part 198—Aviation insurance

Year 1—List of Rules To Be Analyzed This Year (2020)

14 CFR part 141—Pilot Schools

14 CFR part 142—Training Centers

14 CFR part 143—Reserved

14 CFR part 144—Does not exist

14 CFR part 145—Repair Stations

14 CFR part 146—Does not exist

14 CFR part 147—Aviation Maintenance Technician Schools

14 CFR part 170—Establishment and Discontinuance Criteria for Air Traffic Control Services and Navigational Facilities

14 CFR part 171—Non-Federal Navigation Facilities

14 CFR part 172—through 182 Does not exist

14 CFR part 183—Representatives of the Administrator

14 CFR part 184—Does not exist

Year 1 (2020) List of Rules Analyzed and Summary of Results

14 CFR Part 141—Pilot Schools

Section 610: The agency conducted a Section 610 review of this part and found no SEISNOSE.

General: No changes are needed.

14 CFR Part 142—Training Centers

Section 610: The agency conducted a Section 610 review of this part and found no SEISNOSE.

General: No changes are needed.

14 CFR Part 145—Repair Stations

Section 610: The agency conducted a Section 610 review of this part and found no SEISNOSE.

General: No changes are needed.

14 CFR Part 147—Aviation Maintenance Technician Schools

Section 610: The agency conducted a Section 610 review of this part and found no SEISNOSE.

General: No changes are needed.

14 CFR Part 170—Establishment and Discontinuance Criteria for Air Traffic Control Services and Navigational Facilities

Section 610: The agency conducted a Section 610 review of this part and found no SEISNOSE.

General: No changes are needed.

14 CFR Part 171: Non-Federal Navigational Facilities

Section 610: The agency conducted a Section 610 review of this part and found no amendments to 14 CFR 185 since July 2010. Thus, no SEISNOSE exists in this part.

General: No changes are needed.

14 CFR Part 183: Representatives of the Administrator

Section 610: The agency conducted a Section 610 review of this part and found no SEISNOSE.

General: No changes are needed.

14 CFR Part 185: Testimony by Employees and Production of Records in Legal Proceedings, and Service of Legal Process and Pleadings

Section 610: The agency conducted a section 610 review of this part and found no amendments to 14 CFR 185 since July 2010. Thus, no SEISNOSE exists in this part.

General: No changes are needed.

14 CFR Part 187: Fees

Section 610: The agency conducted a section 610 review of this part and found no SEISNOSE.

General: No changes are needed.

Federal Highway Administration

Section 610 and Other Reviews

Year | Regulations to be reviewed | Analysis year | Review year
1 | None | 2018 | 2019
2 | 23 CFR parts 1 to 260 | 2019 | 2020
3 | 23 CFR parts 420 to 470 | 2020 | 2021
4 | 23 CFR part 500 | 2021 | 2022
5 | 23 CFR parts 620 to 637 | 2022 | 2023
6 | 23 CFR parts 645 to 669 | 2023 | 2024
7 | 23 CFR parts 710 to 924 | 2024 | 2025
8 | 23 CFR parts 940 to 973 | 2025 | 2026
9 | 23 CFR parts 1200 to 1252 | 2026 | 2027
10 | New parts and subparts | 2027 | 2028

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145, which expressly provides for a federally assisted State program. For this reason, the regulations adopted by the FHWA in title 23 of the CFR primarily relate to the requirements that States must meet to receive Federal funds for construction and other work related to highways. Because the regulations in title 23 primarily relate to States, which are not defined as small entities under the Regulatory Flexibility Act, the FHWA believes that its regulations in title 23 do not have a significant economic impact on a substantial number of small entities. The FHWA solicits public comment on this preliminary conclusion.

Year 2 (Fall 2019) List of Rules That Will Be Analyzed During the Next Year and a Summary of Results

23 CFR Part 1—General

• Section 610: No SEISNOSE. No small entities are affected.

• General: No changes are needed. These regulations are cost effective and impose the least burden. FHWA's plain language review of these rules indicates no need for substantial revision.

23 CFR Part 140—Reimbursement

• Section 610: No SEISNOSE. No small entities are affected.

• General: No changes are needed. These regulations are cost effective and impose the least burden. FHWA's plain language review of these rules indicates no need for substantial revision.

23 CFR Part 172—Procurement, Management, and Administration of Engineering and Design Related Services

• Section 610: No SEISNOSE. No small entities are affected.

• General: No changes are needed. These regulations are cost effective and impose the least burden. FHWA's plain language review of these rules indicates no need for substantial revision.

23 CFR Part 180—Credit Assistance for Surface Transportation Projects

• Section 610: No SEISNOSE. No small entities are affected.

• General: No changes are needed. These regulations are cost effective and impose the least burden. FHWA's plain language review of these rules indicates no need for substantial revision.

23 CFR Part 190—Incentive Payments for Controlling Outdoor Advertising on the Interstate System

• Section 610: No SEISNOSE. No small entities are affected.

• General: No changes are needed. These regulations are cost effective and impose the least burden. FHWA's plain language review of these rules indicates no need for substantial revision.

23 CFR Part 192—Drug Offender's Driver's License Suspension

• Section 610: No SEISNOSE. No small entities are affected.

• General: FHWA is updating these regulations under RIN 2125-AF93 to increase are cost effectiveness and reduce burden. FHWA's plain language review of these rules indicates no need for substantial revision.

23 CFR Part 200—Title VI Program and Related Statutes—Implementation and Review Procedures

• Section 610: No SEISNOSE. No small entities are affected.

• General: No changes are needed for purposes of the Regulatory Flexibility Act. These regulations are cost effective and impose the least burden. FHWA's plain language review of these rules indicates no need for substantial revision for purposes of the Regulatory Flexibility Act.

23 CFR Part 230—External Programs

• Section 610: No SEISNOSE. No small entities are affected.

• General: FHWA is updating these subpart C of these regulations under RIN 2125-AF87 to reduce duplicative burdens. FHWA's plain language review of these rules indicates no need for substantial revision.

23 CFR Part 260—Education and Training Programs

• Section 610: No SEISNOSE. No small entities are affected.

• General: No changes are needed. These regulations are cost effective and impose the least burden. FHWA's plain language review of these rules indicates no need for substantial revision.

Year 3 (Fall 2020) List of Rules That Will Be Analyzed During the Next Year

23 CFR part 420—Planning and research program administration

23 CFR part 450—Planning assistance and standards

23 CFR part 460—Public road mileage for apportionment of highway safety funds

23 CFR part 470—Highway systems

Federal Motor Carrier Safety Administration

Section 610 and Other Reviews

Year | Regulations to be reviewed | Analysis year | Review year
1 | 49 CFR part 386 | 2018 | 2019
2 | 49 CFR part 385 | 2019 | 2020
3 | 49 CFR parts 382 and 383 | 2020 | 2021
4 | 49 CFR part 380 | 2021 | 2022
5 | 49 CFR part 387 | 2022 | 2023
6 | 49 CFR part 398 | 2023 | 2024
7 | 49 CFR part 392 | 2024 | 2025
8 | 49 CFR part 375 | 2025 | 2026
9 | 49 CFR part 367 | 2026 | 2027
10 | 49 CFR part 395 | 2027 | 2028

Year 2 (2019) List of Rules With Ongoing Analysis

49 CFR Part 386—Rules of Practice for Motor Carrier, Intermodal Equipment Provider, Broker, Freight Forwarder, and Hazardous Materials Proceedings

• Section 610: FMCSA analyzed 49 CFR part 386 and found no SEIOSNOSE. 49 CFR part 386 is a permissive set of rules that establish procedures for respondents, petitioners, and others seeking relief from a determination of non-compliance with Federal Motor Carrier Safety Regulations or Hazardous Materials Regulations. The rule also provides recourse for commercial drivers to report employer harassment or coercion to violate rules.

• General: There is no need for substantial revision. These regulations provide necessary/clear guidance to industry and drivers. The regulations are written consistent with plain language guidelines, are cost effective, and impose the least economic burden to industry.

49 CFR Part 385—Safety Fitness Procedures

• Section 610: FMCSA analyzed 49 CFR part 385 and found no SEIOSNOSE. 49 CFR part 385 provides guidance on safety fitness procedures including monitoring, new entrants, intermodal equipment, and hazardous materials safety permits. The rule addresses safety initiatives whose cost are required by 49 CFR parts 360, 367, 387, and 390. These rules do not result in a SEISNOSE, because they do not introduce new costs to small carriers.

• General: There is no need for substantial revision as these regulations provide necessary guidance to the industry. The regulations are written consistent with plain language guidelines and impose the least economic burden to industry.

Year 3 (2020) List of Rules That Will Be Analyzed During the Next Year

49 CFR part 382—Controlled Substances and Alcohol Use and Testing

49 CFR part 383—Commercial Driver's License Standards; Requirements and Penalties

National Highway Traffic Safety Administration

Section 610 and Other Reviews

Year | Regulations to be reviewed | Analysis year | Review year
1 | 49 CFR parts 571.223 through 571.500, and parts 575 and 579 | 2018 | 2019
2 | 23 CFR parts 1200 and 1300 | 2019 | 2020
3 | 49 CFR parts 501 through 526 and 571.213 | 2020 | 2021
4 | 49 CFR parts 571.131, 571.217, 571.220, 571.221, and 571.222 | 2021 | 2022
5 | 49 CFR parts 571.101 through 571.110, and 571.135, 571.136, 571.138 and 571.139 | 2022 | 2023
6 | 49 CFR parts 571.141, 529 through 578, except parts 571 and 575 | 2023 | 2024
7 | 49 CFR parts 571.111 through 571.129 and 580 through 588 | 2024 | 2025
8 | 49 parts CFR 571.201 through 571.212 | 2025 | 2026
9 | 49 parts CFR 571.214 through 571.219, except 571.217 | 2026 | 2027

Years 1 and 2 (Fall 2019 and 2020) List of Rules With Ongoing Analysis

49 CFR part 571.223—Rear Impact Guards

49 CFR part 571.224—Rear Impact Protection

49 CFR part 571.225—Child Restraint Anchorage Systems

49 CFR part 571.226—Ejection Mitigation

49 CFR part 571.301—Fuel System Integrity

49 CFR part 571.302—Flammability of Interior Materials

49 CFR part 571.303—Fuel System Integrity of Compressed Natural Gas Vehicles

49 CFR part 571.304—Compressed Natural Gas Fuel Container Integrity

49 CFR part 571.305—Electric-Powered Vehicles: Electrolyte Spillage and Electrical Shock Protection

49 CFR part 571.401—Interior Trunk Release

49 CFR part 571.403—Platform Lift Systems for Motor Vehicles

49 CFR part 571.404—Platform Lift Installations in Motor Vehicles

49 CFR part 571.500—Low-Speed Vehicles

49 CFR part 575—Consumer Information

49 CFR part 579—Reporting of Information and Communications About Potential Defects

23 CFR part 1200—Uniform Procedures for State Highway Safety Grant Programs

23 CFR part 1300—Uniform Procedures for State Highway Safety Grant Programs

Federal Railroad Administration

Section 610 and Other Reviews

Year | Regulations to be reviewed | Analysis year | Review year
1 | 49 CFR parts 200, 207, 209, and 210 | 2018 | 2019
2 | 49 CFR parts 211, 212, 213, 214, and 215 | 2019 | 2020
3 | 49 CFR parts 216, 217, 218, 219, and 220 | 2020 | 2021
4 | 49 CFR parts 221, 222, 223, 224, and 225 | 2021 | 2022
5 | 49 CFR parts 227, 228, 229, 230, and 231 | 2022 | 2023
6 | 49 CFR parts 232, 233, 234, 235, and 236 | 2023 | 2024
7 | 49 CFR parts 237, 238, 249, 240, and 241 | 2024 | 2025
8 | 49 CFR parts 242, 243, 244, 250, and 256 | 2025 | 2026
9 | 49 CFR parts 261, 262, 264, 266, and 268 | 2026 | 2027
10 | 49 CFR parts 269, 270, and 272 | 2027 | 2028

Year 2 (Fall 2019) List of Rules Analyzed and a Summary of Results

49 CFR part 211—Rules of Practice

Section 610: There is no SEIOSNOSE.

General: No changes are needed. These regulations are cost effective and impose the least burden. FRA's plain language review of this rule indicates no need for substantial revision.

49 CFR Part 212—State Safety Participation Regulations

Section 610: There is no SEIOSNOSE.

General: No changes are needed. These regulations are cost effective and impose the least burden. FRA's plain language review of this rule indicates no need for substantial revision.

49 CFR Part 213—Track Safety Standards

• Section 610: This rule is expected to have a significant economic impact on a substantial number of small entities (SEIOSNOSE). These small entities are approximately 737 short line railroads. As part of the rulemaking process, FRA conducted a review of the impact that this rulemaking could have on small businesses and whether any opportunities may exist to reduce the burdens on small railroads without compromising safety.

General: The rule prescribes minimum safety requirements for railroad track that is part of the general railroad system of transportation. The objective of the rule is to enhance the safety of rail transportation, protecting both those traveling and working on the system and those off the system who might be adversely affected by a rail incident. FRA's plain language review of this rule indicates no need for substantial revision.

49 CFR Part 214—Railroad Workplace Safety

Section 610: There is a SEIOSNOSE. As part of the rulemaking process, FRA conducted a review of the impact that this rulemaking could have on small businesses and whether any opportunities may exist to reduce the burdens on small railroads without compromising safety.

General: FRA's plain language review of this rule indicates no need for substantial revision.

49 CFR Part 215—Railroad Freight Car Safety Standards

Section 610: There is a SEIOSNOSE.

General: No changes are needed. This rule already limits economic impact on small entities through Appendix D of the rule. FRA's plain language review of this rule indicates no need for substantial revision.

Federal Transit Administration

Section 610 and Other Reviews

The Regulatory Flexibility Act of 1980 (RFA), as amended (sections 601 through 612 of title 5, United States Code), requires Federal regulatory agencies to analyze all proposed and final rules to determine their economic impact on small entities, which include small businesses, organizations, and governmental jurisdictions. Section 610 requires government agencies to periodically review all regulations that will have a significant economic impact on a substantial number of small entities (SEISNOSE).

In complying with this section, the Federal Transit Administration (FTA) has elected to use the two-step, two-year process used by most Department of Transportation (DOT) modes. As such, FTA has divided its rules into 10 groups as displayed in the table below. During the analysis year, the listed rules will be analyzed to identify those with a SEISNOSE. During the review year, each rule identified in the analysis year as having a SEISNOSE will be reviewed in accordance with section 610(b) to determine if it should be continued without change or changed to minimize the impact on small entities.

Year | Regulations to be reviewed | Analysis year | Review year
1 | 49 CFR parts 604, 605, and 624 | 2018 | 2019
2 | 49 CFR parts 609 and 640 | 2019 | 2020
3 | 49 CFR part 633 | 2020 | 2021
4 | 49 CFR part 611 | 2021 | 2022
5 | 49 CFR part 655 | 2022 | 2023
6 | 49 CFR parts 602 and 614 | 2023 | 2024
7 | 49 CFR parts 661 and 663 | 2024 | 2025
8 | 49 CFR parts 625, 630, and 665 | 2025 | 2026
9 | 49 CFR parts 613, 622, 670 and 674 | 2026 | 2027
10 | 49 CFR parts 650, 672 and 673 | 2027 | 2028

Year 2 (2019) List of Rules Analyzed and Summary of Results

49 CFR Part 609—Transportation for Elderly and Handicapped Persons

• Section 610: FTA conducted a section 610 review of 49 CFR part 609 and determined that it would not result in a SEISNOSE within the meaning of the RFA. The rule ensures that applicants for financial assistance under section 5307 of title 49, United States Code, as a condition of receiving such assistance, provide half-fares for elderly and handicapped persons during non-peak hours for transportation utilizing or involving the facilities and equipment of the project financed with FTA assistance.

• General: No changes are needed. FTA estimated the costs and projected benefits of the rule and believes it is cost-effective and imposes the least burden. FTA's plain language review of this rule indicates no need for substantial revision.

49 CFR Part 640—Credit Assistance for Surface Transportation Projects

• Section 610: FTA conducted a section 610 review of 49 CFR part 640 and determined that it would not result in a SEISNOSE within the meaning of the RFA. The regulation is a cross-reference to the Department of Transportation's Credit Assistance for Surface Transportation Projects regulation at 49 CFR part 80. FTA does not own the cross-referenced regulation and, accordingly, cannot make changes or determine whether it is a SEISNOSE within the meaning of the RFA.

• General: No changes are needed. The regulation is a cross-reference to a DOT regulation.

Year 3 (2020) List of Rules To Be Analyzed the Next Year

49 CFR Part 633—Project Management Oversight

Maritime Administration

Section 610 and Other Reviews

Year | Regulations to be reviewed | Analysis year | Review year
1 | 46 CFR parts 201 through 205, 46 CFR parts 315 through 340, 46 CFR part 345 through 347, and 46 CFR parts 381 and 382 | 2018 | 2019
2 | 46 CFR parts 221 through 232 | 2019 | 2020
3 | 46 CFR parts 249 through 296 | 2020 | 2021
4 | 46 CFR parts 221, 298, 308, and 309 | 2021 | 2022
5 | 46 CFR parts 307 through 309 | 2022 | 2023
6 | 46 CFR part 310 | 2023 | 2024
7 | 46 CFR parts 315 through 340 | 2024 | 2025
8 | 46 CFR parts 345 through 381 | 2025 | 2026
9 | 46 CFR parts 382 through 389 | 2026 | 2027
10 | 46 CFR parts 390 through 393 | 2027 | 2028

Year 1 (2018) List of Rules With Ongoing Analysis

46 CFR part 201—Rules of Practice and Procedure

46 CFR part 202—Procedures relating to review by Secretary of Transportation of actions by Maritime Subsidy Board

46 CFR part 203—Procedures relating to conduct of certain hearings under the Merchant Marine Act, 1936, as amended

46 CFR part 205—Audit Appeals; Policy and Procedure

46 CFR part 315—Agency Agreements and Appointment of Agents

46 CFR part 317—Bonding of Ship's Personnel

46 CFR part 324—Procedural Rules for Financial Transactions Under Agency Agreements

46 CFR part 325—Procedure to Be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seamen

46 CFR part 335—Authority and Responsibility of General Agents to Undertake Emergency Repairs in Foreign Ports

46 CFR part 336—Authority and Responsibility of General Agents to Undertake in Continental United States Ports Voyage Repairs and Service Equipment of Vessels Operated for the Account of The National Shipping Authority Under General Agency Agreement

46 CFR part 337—General Agent's Responsibility in Connection with Foreign Repair Custom's Entries

46 CFR part 338—Procedure for Accomplishment of Vessel Repairs Under National Shipping Authority Master Lump Sum Repair Contract—NSA-Lumpsumrep

46 CFR part 339—Procedure for Accomplishment of Ship Repairs Under National Shipping Authority Individual Contract for Minor Repairs—NSA-Workmanship

46 CFR part 340—Priority Use and Allocation of Shipping Services, Containers and Chassis, and Port Facilities and Services for National Security and National Defense Related Operations

46 CFR part 345—Restrictions Upon the Transfer or Change in Use or In Terms Governing Utilization of Port Facilities

46 CFR part 346—Federal Port Controllers

46 CFR part 347—Operating Contract

46 CFR part 381—Cargo Preference—U.S.-Flag Vessels

46 CFR part 382—Determination of Fair and Reasonable Rates for the Carriage of Bulk and Packaged Preference Cargoes on U.S.-Flag Commercial Vessels

Year 1 (2018) List of Rules Analyzed and a Summary of Results

46 CFR Part 204—Claims Against the Maritime Administration Under the Federal Tort Claims Act

• Section 610: There is no SEIOSNOSE.

• General: The purpose of this rule is to prescribe the requirements and procedures for administrative claims against the United States involving the Maritime Administration under the Federal Tort Claims Act. The agency has determined that the rule is cost-effective and imposes the least possible burden on small entities. MARAD's plain language review of this rule indicates no need of substantial revision.

Year 2 (2019) List of Rules Analyzed and a Summary of Results

46 CFR Part 221 Regulated Transactions Involving Documented Vessels and Other Maritime Interests

• Section 610: There is no SEIOSNOSE.

• General: The purpose of this rule is to govern practice and procedure in regulating interest in or control of Documented Vessels owned by Citizens of the United States to Noncitizens and transactions involving certain maritime interests in time of war or national emergency. The agency has determined that the rule is cost-effective and imposes the least possible burden on small entities. MARAD's plain language review of this rule indicates no need of substantial revision.

46 CFR Part 232 Uniform Financial Reporting Requirements

• Section 610: There is no SEIOSNOSE.

• General: The purpose of this rule is to govern practice and procedure to all participants in financial assistance programs administered by the Maritime Administration. The agency has determined that the rule is cost-effective and imposes the least possible burden on small entities. MARAD's plain language review of this rule indicates no need of substantial revision.

Year 3 (2020) List of Rules That Will Be Analyzed During This Year

46 CFR part 249—Approval of Underwriters for Marine Hull Insurance

46 CFR part 272—Requirements and Procedures for Conducting Condition Surveys and Administering Maintenance and Repair Subsidy

46 CFR part 277—Domestic and Foreign Trade; Interpretations

46 CFR part 287—Establishment of Construction Reserve Funds

46 CFR part 289—Insurance of Construction-Differential Subsidy Vessels, Operating-Differential Subsidy Vessels and of Vessels Sold or Adjusted Under the Merchant Ship Sales Act of 1946

46 CFR part 295—Maritime Security Program

46 CFR part 296—Maritime Security Program

Pipeline and Hazardous Materials Safety Administration (PHMSA)

Section 610 and Other Reviews

Year | Regulations to be reviewed | Analysis year | Review year
1 | 49 CFR part 178 | 2018 | 2019
2 | 49 CFR parts 178 through 180 | 2019 | 2020
3 | 49 CFR parts 172 and 175 | 2020 | 2021
4 | 49 CFR part 171, sections 171.15 and 171.16 | 2021 | 2022
5 | 49 CFR parts 106, 107, 171, 190, and 195 | 2022 | 2023
6 | 49 CFR parts 174, 177, and 199 | 2023 | 2024
7 | 49 CFR parts 176, 191 and 192 | 2024 | 2025
8 | 49 CFR parts 172 and 178 | 2025 | 2026
9 | 49 CFR parts 172, 173, 174, 176, 177, and 193 | 2026 | 2027
10 | 49 CFR parts 173 and 194 | 2027 | 2028

Year 2 (Fall 2020) List of Rules Analyzed and a Summary of Results

• 49 CFR part 178—Specifications for Packaging

• 49 CFR part 179—Specifications for Tank Cars

• 49 CFR part 180—Continuing Qualification and Maintenance of Packaging

Section 610: PHMSA Conducted a Review of These Parts and Found no SEISNOSE

• General: PHMSA has reviewed these parts and found that while these parts do not have SEISNOSE, they could be streamlined to reflect new technologies and potentially enhance safety. As such, PHMSA has continued developing multiple rulemakings to reduce possible compliance burdens of parts 178, 179, and 180. Further, PHMSA's plain language review of these parts indicates no need for substantial revision. Where confusing or ambiguous language has been identified, PHMSA plans to propose or finalize revisions by way of rulemakings.

As an example, the “Hazardous Materials: Modal Regulatory Reforms Initiatives” (2137-AF41) rulemaking action is part of PHMSA's response to clarify current regulatory requirements and address public comments. This rulemaking also proposes to address a variety of petitions for rulemaking, specific to modal stakeholders, and other issues identified by PHMSA during its regulatory review. The impact that the 2137-AF41 rulemaking will have on small entities is not expected to be significant. The rulemaking is based on PHMSA's initiatives and correspondence with the regulated community, as well as PHMSA's consultation with its modal partners, including FMCSA, FRA, and the United States Coast Guard (USCG). The proposed amendments are expected to result in an overall net cost savings and ease the regulatory compliance burden for small entities, shippers, carriers, manufacturers, and requalifiers, specifically those modal-specific packaging and requalification requirements. This rulemaking is one example of PHMSA's review of rulemakings which ensures that our rules do not have a significant economic impact on a substantial number of small entities.

For a second example, the “Hazardous Materials: Harmonization With International Standards” (2137-AF46) rulemaking action is part of PHMSA's ongoing biennial process to harmonize the Hazardous Materials Regulations (HMR) with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazardous materials law permits PHMSA to depart from international standards where appropriate, including to promote safety or other overriding public interests. However, Federal hazardous materials law otherwise encourages domestic and international harmonization (see 49 U.S.C. 5120). Harmonization facilitates international trade by minimizing the costs and other burdens of complying with multiple or inconsistent safety requirements for transportation of hazardous materials. Safety is enhanced by creating a uniform framework for compliance, and as the volume of hazardous materials transported in international commerce continues to grow, harmonization becomes increasingly important. The impact that the 2137-AF46 rulemaking will have on small entities is not expected to be significant. The rulemaking will clarify provisions based on PHMSA's initiatives and correspondence with the regulated community and domestic and international stakeholders. The changes are generally intended to provide relief and, as a result, positive economic benefits to shippers, carriers, and packaging manufacturers and testers, including small entities. This rulemaking is expected to lead to both economic and safety benefits. The amendments are expected to result in net cost for shippers engaged in domestic and international commerce, including trans-border shipments within North America. Additionally, the effective changes of this rulemaking will relieve U.S. companies, including small entities competing in foreign markets, from the burden of complying with a dual system of regulations. This rulemaking is a second example of PHMSA's review of rulemakings which helps ensure that the HMR do not have a significant economic impact on a substantial number of small entities.

Year 3 (Fall 2021) List of Rules That Will Be Analyzed During the Next Year

49 CFR part 172—Hazardous Materials Table, Special Provisions, Hazardous Materials Communications, Emergency Response Information, Training Requirements, and Security Plans

49 CFR part 175—Carriage by Aircraft

Great Lakes Saint Lawrence Seaway Development Corporation

Section 610 and Other Reviews

Year | Regulations to be reviewed | Analysis year | Review year
1 | * 33 CFR parts 401 through 403 | 2018 | 2019
* The review for these regulations is recurring each year of the 10-year review cycle (currently 2018 through 2027).

Year 1 (Fall 2018) List of Rules That Will Be Analyzed During the Next Year

33 CFR part 401—Seaway Regulations and Rules

33 CFR part 402—Tariff of Tolls

33 CFR part 403—Rules of Procedure of the Joint Tolls Review Board

Office of the Secretary—Long-Term Actions
Sequence No. | Title | Regulation Identifier No.
163 | + Air Transportation Consumer Protection Requirements for Ticket Agents (Section 610 Review) | 2105-AE57
+ DOT-designated significant regulation.

Office of the Secretary—Completed Actions
Sequence No. | Title | Regulation Identifier No.
164 | + Defining Unfair or Deceptive Practices | 2105-AE72
+ DOT-designated significant regulation.

Federal Aviation Administration—Prerule Stage
Sequence No. | Title | Regulation Identifier No.
165 | + Applying the Flight, Duty, and Rest Requirements to Ferry Flights That Follow Commuter or On-Demand Operations (FAA Reauthorization) | 2120-AK26
+ DOT-designated significant regulation.

Federal Aviation Administration—Proposed Rule Stage
Sequence No. | Title | Regulation Identifier No.
166 | + Drug and Alcohol Testing of Certain Maintenance Provider Employees Located Outside of the United States | 2120-AK09
167 | Requirements to File Notice of Construction of Meteorological Evaluation Towers and Other Renewable Energy Projects (Section 610 Review) | 2120-AK77
+ DOT-designated significant regulation.

Federal Aviation Administration—Final Rule Stage
Sequence No. | Title | Regulation Identifier No.
168 | + Airport Safety Management System | 2120-AJ38
169 | + Pilot Records Database (HR 5900) | 2120-AK31
170 | + Registration and Marking Requirements for Small Unmanned Aircraft | 2120-AK82
+ DOT-designated significant regulation.

Federal Aviation Administration—Long-Term Actions
Sequence No. | Title | Regulation Identifier No.
171 | + Regulation Of Flight Operations Conducted By Alaska Guide Pilots | 2120-AJ78
172 | + Aircraft Registration and Airmen Certification Fees | 2120-AK37
173 | + Helicopter Air Ambulance Pilot Training and Operational Requirements (HAA II) (FAA Reauthorization) | 2120-AK57
+ DOT-designated significant regulation.

Federal Aviation Administration—Completed Actions
Sequence No. | Title | Regulation Identifier No.
174 | + Operations of Small Unmanned Aircraft Systems Over People | 2120-AK85
175 | + Remote Identification of Unmanned Aircraft | 2120-AL31
+ DOT-designated significant regulation.

Federal Motor Carrier Safety Administration—Final Rule Stage
Sequence No. | Title | Regulation Identifier No.
176 | Controlled Substances and Alcohol Testing: State Driver's Licensing Agency Downgrade of Commercial Driver's License (Section 610 Review) | 2126-AC11

Federal Motor Carrier Safety Administration—Long-Term Actions
Sequence No. | Title | Regulation Identifier No.
177 | + Safety Monitoring System and Compliance Initiative for Mexico-Domiciled Motor Carriers Operating in the United States | 2126-AA35
+ DOT-designated significant regulation.

Federal Railroad Administration—Proposed Rule Stage
Sequence No. | Title | Regulation Identifier No.
178 | + Train Crew Staffing | 2130-AC88
+ DOT-designated significant regulation.

Saint Lawrence Seaway Development Corporation—Completed Actions
Sequence No. | Title | Regulation Identifier No.
179 | Seaway Regulations and Rules: Periodic Update, Various Categories (Rulemaking Resulting From a Section 610 Review) | 2135-AA49
180 | + Tariff of Tolls (Rulemaking Resulting From a Section 610 Review) | 2135-AA50
+ DOT-designated significant regulation.

Pipeline and Hazardous Materials Safety Administration—Final Rule Stage
Sequence No. | Title | Regulation Identifier No.
181 | + Pipeline Safety: Amendments to Parts 192 and 195 to Require Valve Installation and Minimum Rupture Detection Standards | 2137-AF06
182 | + Hazardous Materials: Enhanced Safety Provisions for Lithium Batteries Transported by Aircraft (FAA Reauthorization Act of 2018) | 2137-AF20
+ DOT-designated significant regulation.

Pipeline and Hazardous Materials Safety Administration—Long-Term Actions
Sequence No. | Title | Regulation Identifier No.
183 | + Pipeline Safety: Gas Pipeline Leak Detection and Repair | 2137-AF51
184 | + Pipeline Safety: Pipeline Operational Status | 2137-AF52
185 | + Pipeline Safety: Safety of Gas Distribution Pipelines | 2137-AF53
+ DOT-designated significant regulation.

DEPARTMENT OF TRANSPORTATION (DOT)

Office of the Secretary (OST)

Long-Term Actions

163. +Air Transportation Consumer Protection Requirements for Ticket Agents (Section 610 Review)

Legal Authority: 49 U.S.C. 41712; FAA Reauthorization Act of 2018, Sec. 427

Abstract: This rulemaking would address a number of proposals to enhance protections for air travelers and to improve the air travel environment. Specifically, this rulemaking would enhance airline passenger protections by addressing whether to codify in regulation a definition of the term “ticket agent.” The rulemaking would also consider whether to require large travel agents to adopt minimum customer service standards and prohibit the unfair and deceptive practice of post-purchase price increases. These issues, previously part of a rulemaking known as Airline Pricing Transparency and Other Consumer Protection Issues, (2105-AE11) have been separated into this proceeding.

Timetable: Next Action Undetermined.

Regulatory Flexibility Analysis Required: No.

Agency Contact: Blane A. Workie, Assistant General Counsel, Department of Transportation, Office of the Secretary, 1200 New Jersey Avenue SE, Washington, DC 20590, Phone: 202-366-9342, Fax: 202-366-7153, Email: blane.workie@ost.dot.gov.

RIN: 2105-AE57

DEPARTMENT OF TRANSPORTATION (DOT)

Office of the Secretary (OST)

Completed Actions

164. +Defining Unfair or Deceptive Practices

Legal Authority: 49 U.S.C. 41712

Abstract: This rulemaking defines the phrase “unfair or deceptive practice” found in the Department's aviation consumer protection statute. The Department's statute is modeled after a similar statute granting the Federal Trade Commission (FTC) the authority to regulate unfair or deceptive practices. Using the FTC's policy statements as a guide, the Department has found a practice to be unfair if it causes or is likely to cause substantial harm, the harm cannot reasonably be avoided, and the harm is not outweighed by any countervailing benefits to consumers or to competition. Likewise, the Department has found a practice to be deceptive if it misleads or is likely to mislead a consumer acting reasonably under the circumstances with respect to a material issue (one that is likely to affect the consumer's decision with regard to a product or service). This rulemaking would codify the Department's existing interpretation of “unfair or deceptive practice,” and seek comment on any whether changes are needed. The rulemaking also requires the Department to articulate in future enforcement orders the basis for concluding that a practice is unfair or deceptive where no existing regulation governs the practice in question, state the basis for its conclusion that a practice is unfair or deceptive when it issues discretionary aviation consumer protection regulations, and apply formal hearing procedures for discretionary aviation consumer protection rulemakings. In addition, this rulemaking codifies the longstanding practice of the Department to offer airlines and ticket agents the opportunity to be heard and present relevant evidence before any determination is made on how to resolve a matter involving a potential unfair or deceptive practice.

Timetable:

Action | Date | FR Cite
Final Action/2 | 12/07/20 | 85 FR 78707
Final Action Effective | 01/06/21 |

Regulatory Flexibility Analysis Required: Yes.

Agency Contact: Blane A. Workie, Assistant General Counsel, Department of Transportation, Office of the Secretary, 1200 New Jersey Avenue SE, Washington, DC 20590, Phone: 202-366-9342, Fax: 202-366-7153, Email: blane.workie@ost.dot.gov.

RIN: 2105-AE72

DEPARTMENT OF TRANSPORTATION (DOT)

Federal Aviation Administration (FAA)

Prerule Stage

165. +Applying the Flight, Duty, and Rest Requirements to Ferry Flights That Follow Commuter or On-Demand Operations (FAA Reauthorization)

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 12/00/21 |

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

DEPARTMENT OF TRANSPORTATION (DOT)

Federal Aviation Administration (FAA)

Proposed Rule Stage

166. +Drug and Alcohol Testing of Certain Maintenance Provider Employees Located Outside of the United States

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Public Law 112-95).

Timetable:

Action | Date | FR Cite
ANPRM | 03/17/14 | 79 FR 14621
ANPRM Comment Period Extended | 05/01/14 | 79 FR 24631
ANPRM Comment Period End | 05/16/14 |
ANPRM Comment Period Extended End | 07/17/14 |
NPRM | 12/00/21 |

Regulatory Flexibility Analysis Required: Yes.

Agency Contact: Julia Brady, Program Analyst, Program Policy Branch, Department of Transportation, Federal Aviation Administration, 800 Independence Ave. SW, Washington, DC 20591, Phone: 202-267-8083, Email: julia.brady@faa.gov.

RIN: 2120-AK09

167. Requirements To File Notice of Construction of Meteorological Evaluation Towers and Other Renewable Energy Projects (Section 610 Review)

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 04/00/22 |

Regulatory Flexibility Analysis Required: No.

Agency Contact: Sheri Edgett-Baron, Air Traffic Service, Department of Transportation, Federal Aviation Administration, 800 Independence Avenue SW, Washington, DC 20591, Phone: 202 267-9354, Email: sheri.edgett-baron@faa.gov.

RIN: 2120-AK77

DEPARTMENT OF TRANSPORTATION (DOT)

Federal Aviation Administration (FAA)

Final Rule Stage

168. +Airport Safety Management System

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11 |
End of Extended Comment Period | 03/07/11 |
Second Extension of Comment Period | 03/07/11 | 76 FR 12300
End of Second Extended Comment Period | 07/05/11 |
Second NPRM | 07/14/16 | 81 FR 45871
Second NPRM Comment Period End | 09/12/16 |
Final Rule | 10/00/21 |

Regulatory Flexibility Analysis Required: Yes.

Agency Contact: James Schroeder, Office of Airport Safety and Standards, Department of Transportation, Federal Aviation Administration, 800 Independence Avenue SW, Washington, DC 20591, Phone: 202 267-4974, Email: james.schroeder@faa.gov.

RIN: 2120-AJ38

169. +Pilot Records Database (HR 5900)

Legal Authority: 49 U.S.C. 106(f); 49 U.S.C. 106(g); 49 U.S.C. 1155; 49 U.S.C. 40103; 49 U.S.C. 40113; 49 U.S.C. 40119; 49 U.S.C. 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315; 49 U.S.C. 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots, and used by potential employers prior to making hiring decisions. The FAA must maintain these records until it receives notice that a pilot is deceased.

Timetable:

Action | Date | FR Cite
NPRM | 03/30/20 | 85 FR 17660
NPRM Comment Period End | 06/29/20 |
Final Rule | 05/00/21 |

Regulatory Flexibility Analysis Required: Yes.

Agency Contact: Christopher Morris, Department of Transportation, Federal Aviation Administration, 6500 South MacArthur Boulevard, Oklahoma City, OK 73169, Phone: 405 954-4646, Email: christopher.morris@faa.gov.

RIN: 2120-AK31

170. +Registration and Marking Requirements for Small Unmanned Aircraft

Legal Authority: 49 U.S.C. 106(f), 49 U.S.C. 41703, 44101-44106, 44110-44113, and 44701

Abstract: This rulemaking would provide an alternative, streamlined and simple, web-based aircraft registration process for the registration of small unmanned aircraft, including small unmanned aircraft operated exclusively for limited recreational operations, to facilitate compliance with the statutory requirement that all aircraft register prior to operation. It would also provide a simpler method for marking small unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15 |
OMB approval of information collection | 12/21/15 | 80 FR 79255
Interim Final Rule Comment Period End | 01/15/16 |
Final Rule | 12/00/21 |

Regulatory Flexibility Analysis Required: Yes.

Agency Contact: Bonnie Lefko, Department of Transportation, Federal Aviation Administration, 6500 South MacArthur Boulevard, Registry Building 26, Room 118, Oklahoma City, OK 73169, Phone: 405 954-7461, Email: bonnie.lefko@faa.gov.

RIN: 2120-AK82

DEPARTMENT OF TRANSPORTATION (DOT)

Federal Aviation Administration (FAA)

Long-Term Actions

171. +Regulation of Flight Operations Conducted by Alaska Guide Pilots

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statute 1180; P.L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email: jeffrey.smith@faa.gov.

RIN: 2120-AJ78

172. +Aircraft Registration and Airmen Certification Fees

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; P.L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 06/00/22 |

Regulatory Flexibility Analysis Required: Yes.

Agency Contact: Isra Raza, Department of Transportation, Federal Aviation Administration, 800 Independence Avenue SW, Washington, DC 20591, Phone: 202 267-8994, Email: isra.raza@faa.gov.

RIN: 2120-AK37

173. +Helicopter Air Ambulance Pilot Training and Operational Requirements (HAA II) (FAA Reauthorization)

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 801 Pennsylvania Avenue NW, Washington, DC 20024, Phone: 202 267-4552, Email: chris.holliday@faa.gov.

RIN: 2120-AK57

DEPARTMENT OF TRANSPORTATION (DOT)

Federal Aviation Administration (FAA)

Completed Actions

174. +Operations of Small Unmanned Aircraft Systems Over People

Legal Authority: 49 U.S.C. 106(f); 49 U.S.C. 40101; 49 U.S.C. 40103(b); 49 U.S.C. 44701(a)(5); Pub. L. 112-95, sec. 333

Abstract: This rulemaking would address the performance-based standards and means-of-compliance for operation of small unmanned aircraft systems (UAS) over people not directly participating in the operation or not under a covered structure or inside a stationary vehicle that can provide reasonable protection from a falling small unmanned aircraft. This rule would provide relief from certain operational restrictions implemented in the Operation and Certification of Small Unmanned Aircraft Systems final rule (RIN 2120-AJ60).

Timetable:

Action | Date | FR Cite
NPRM | 02/13/19 | 84 FR 3856
NPRM Comment Period End | 04/15/19 |
Final Action | 01/15/21 | 86 FR 4314
Delay of Effective and Compliance Dates; Withdrawal; Correction | 03/10/21 | 86 13636
Final Action | 03/10/21 | 86 FR 13630
Final Rule Effective | 03/16/21 |
Delayed the Effective Date | 04/06/21 |

Regulatory Flexibility Analysis Required: Yes.

Agency Contact: Michael Machnik, Department of Transportation, Federal Aviation Administration, 2300 E Devon, Suite 261, Des Plaines, IL 60018, Phone: 630 488-0090, Email: michael.machnik@faa.gov.

RIN: 2120-AK85

175. +Remote Identification of Unmanned Aircraft

Legal Authority: 118 Stat. 1095; 126 Stat. 11; 126 Stat. 75; 130 Stat. 615; 4 U.S.T. 1830; 49 U.S.C. 106(f); 49 U.S.C. 106(g); 49 U.S.C. 40101; 49 U.S.C. 40103; 49 U.S.C. 40103(b); 49 U.S.C. 40113; 49 U.S.C. 40114; 49 U.S.C. 40120; 49 U.S.C. 41703; 49 U.S.C. 44101 to 44108; 49 U.S.C. 44110 to 44113; 49 U.S.C. 44701; 49 U.S.C. 44701(a)(5); 49 U.S.C. 44703; 49 U.S.C. 44704; 49 U.S.C. 44709; 49 U.S.C. 44711 to 44713; 49 U.S.C. 44715 to 44717; 49 U.S.C. 44722; 49 U.S.C. 44805; 49 U.S.C. 44809(f); 49 U.S.C. 45302; 49 U.S.C. 45305; 49 U.S.C. 46104; 49 U.S.C. 46301; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531; 49 U.S.C. 47534; 61 Stat. 1180; Pub. L. 108-297; Pub. L. 112-95; Pub. L. 114-190

Abstract: This action would require the remote identification of unmanned aircraft systems. The remote identification of unmanned aircraft systems in the airspace of the United States would address safety, national security, and law enforcement concerns regarding the further integration of these aircraft into the airspace of the United States while also enabling greater operational capabilities.

Timetable:

Action | Date | FR Cite
NPRM | 12/31/19 | 84 FR 72438
NPRM Comment Period End | 03/02/20 |
Final Rule | 01/15/21 | 86 4390
Delay of Effective and Compliance Dates | 03/10/21 | 86 13529
Effective Date | 03/16/21 |
Delayed Effective Date | 04/21/21 |

Regulatory Flexibility Analysis Required: Yes.

Agency Contact: Ben Walsh, Department of Transportation, Federal Aviation Administration, 470 L'Enfant Plaza, Office 3200, Washington, DC 20024, Phone: 202-267-8233, Email: ben.walsh@faa.gov.

RIN: 2120-AL31

BILLING CODE 4910-13-P

DEPARTMENT OF TRANSPORTATION (DOT)

Federal Motor Carrier Safety Administration (FMCSA)

Final Rule Stage

176. Controlled Substances and Alcohol Testing: State Driver's Licensing Agency Downgrade of Commercial Driver's License (Section 610 Review)

Legal Authority: 49 U.S.C. 31136(a); 49 U.S.C. 31305(a)

Abstract: FMCSA proposes to prohibit State Driver's Licensing Agencies (SDLAs) from issuing, renewing, upgrading, or transferring a commercial driver's license (CDL), or commercial learner's permit (CLP), for individuals prohibited under current regulations from driving a commercial motor vehicle (CMV) due to controlled substance (drug) and alcohol program violations. The CMV driving ban is intended to keep these drivers off the road until they comply with return-to-duty (RTD) requirements. FMCSA also seeks comment on alternate proposals establishing additional ways that SDLAs would use information, obtained through the Drug and Alcohol Clearinghouse (Clearinghouse), to increase compliance with the CMV driving prohibition. Further, the Agency proposes to revise how reports of actual knowledge violations, based on a citation for Driving Under the Influence (DUI) in a CMV, would be maintained in the Clearinghouse. These proposed changes would improve highway safety by increasing compliance with existing drug and alcohol program requirements.

Timetable:

Action | Date | FR Cite
NPRM | 04/28/20 | 85 FR 23670
NPRM Comment Period End | 06/29/20 |
Final Rule | 06/00/21 |

Regulatory Flexibility Analysis Required: No.

Agency Contact: Juan Moya, Department of Transportation, Federal Motor Carrier Safety Administration, 1200 New Jersey Avenue SE, Washington, DC 20590, Phone: 202 366-4844, Email: juan.moya@dot.gov.

RIN: 2126-AC11

DEPARTMENT OF TRANSPORTATION (DOT)

Federal Motor Carrier Safety Administration (FMCSA)

Long-Term Actions

177. +Safety Monitoring System and Compliance Initiative for Mexico-Domiciled Motor Carriers Operating in the United States

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent to Prepare an EIS | 08/26/03 | 68 FR 51322
EIS Public Scoping Meetings | 10/08/03 | 68 FR 58162
Next Action Undetermined

Regulatory Flexibility Analysis Required: Yes.

Agency Contact: Dolores Macias, Acting Division Chief, Department of Transportation, Federal Motor Carrier Safety Administration, 1200 New Jersey Avenue SE, Washington, DC 20590, Phone: 202 366-2995, Email: dolores.macias@dot.gov.

RIN: 2126-AA35

BILLING CODE 4910-EX-P

DEPARTMENT OF TRANSPORTATION (DOT)

Federal Railroad Administration (FRA)

Proposed Rule Stage

178. • +Train Crew Staffing

Legal Authority: 49 CFR 1.89(a); 49 U.S.C. 20103

Abstract: This rulemaking would address the potential safety impact of one-person train operations, including appropriate measures to mitigate an accident's impact and severity, and the patchwork of State laws concerning minimum crew staffing requirements. This rulemaking would address the issue of minimum requirements for the size of different train crew staffs, depending on the type of operations.

Timetable:

Action | Date | FR Cite
NPRM | 11/00/21 |

Regulatory Flexibility Analysis Required: Yes.

Agency Contact: Amanda Maizel, Attorney Adviser, Department of Transportation, Federal Railroad Administration, 1200 New Jersey Avenue SE, Washington, DC 20590, Phone: 202 493-8014, Email: amanda.maizel@dot.gov.

RIN: 2130-AC88

BILLING CODE 4910-06-P

DEPARTMENT OF TRANSPORTATION (DOT)

Saint Lawrence Seaway Development Corporation (SLSDC)

Completed Actions

179. Seaway Regulations and Rules: Periodic Update, Various Categories (Rulemaking Resulting From a Section 610 Review)

Legal Authority: 33 U.S.C. 981 et seq

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Interpretations; Condition of Vessels; Seaway Navigation; Dangerous Cargo; and Schedule II. These changes are to clarify existing requirements in the regulations. In addition, Congress renamed the Saint Lawrence Seaway Development Corporation (SLSDC) as Great Lakes St. Lawrence Seaway Development Corporation (GLS) as part of the 2021 Consolidated Appropriations Act (section 512 of Division AA of Pub. L. 116-260), signed into law on December 27, 2020. The joint regulations are being amended to reflect the name change.

Timetable:

Action | Date | FR Cite
Final Action | 03/23/21 | 86 FR 15411
Final Action Effective | 03/24/21 |

Regulatory Flexibility Analysis Required: No.

Agency Contact: Carrie Lavigne, Department of Transportation, Saint Lawrence Seaway Development Corporation, 1200 New Jersey Avenue SE, Washington, DC 20590, Phone: 315 764-3231, Email: carrie.mann@dot.gov.

RIN: 2135-AA49

180. +Tariff of Tolls (Rulemaking Resulting From a Section 610 review)

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC. The GLS is revising its regulations to reflect the fees and charges levied by the SLSMC in Canada starting in the 2021 navigation season, which are effective only in Canada. An amendment to increase the minimum charge per lock for those vessels that are not pleasure craft or subject in Canada to tolls under items 1 and 2 of the Tariff for full or partial transit of the Seaway will apply in the U.S. In addition, Congress renamed the Saint Lawrence Seaway Development Corporation (SLSDC) as Great Lakes St. Lawrence Seaway Development Corporation (GLS) as part of the 2021 Consolidated Appropriations Act (section 512 of Division AA of Pub. L. 116-260), signed into law on December 27, 2020. The joint regulations are being amended to reflect the name change.

Timetable:

Action | Date | FR Cite
Final Action | 03/24/21 | 86 FR 15585
Final Action Effective | 03/24/21 |

Regulatory Flexibility Analysis Required: No.

Agency Contact: Carrie Lavigne, Department of Transportation, Saint Lawrence Seaway Development Corporation, 1200 New Jersey Avenue SE, Washington, DC 20590, Phone: 315 764-3231, Email: carrie.mann@dot.gov.

RIN: 2135-AA50

BILLING CODE 4910-61-P

DEPARTMENT OF TRANSPORTATION (DOT)

Pipeline and Hazardous Materials Safety Administration (PHMSA)

Final Rule Stage

181. +Pipeline Safety: Amendments to Parts 192 and 195 To Require Valve Installation and Minimum Rupture Detection Standards

Legal Authority: 49 U.S.C. 60101 et seq.

Abstract: This rulemaking action would revise the Pipeline Safety Regulations applicable to most newly constructed and entirely replaced onshore natural gas transmission and hazardous liquid pipelines to improve rupture mitigation and shorten pipeline segment isolation times. The rulemaking action would define “notification of potential rupture” and outline certain performance standards related to rupture identification and pipeline segment isolation. This rulemaking action also would require specific valve maintenance and inspection requirements, and 9-1-1 notification requirements to help operators achieve better rupture response and mitigation.

Timetable:

Action | Date | FR Cite
NPRM | 02/06/20 | 85 FR 7162
NPRM Comment Period End | 04/06/20
Final Rule | 10/00/21

Regulatory Flexibility Analysis Required: Yes.

Agency Contact: Robert Jagger, Technical Writer, Department of Transportation, Pipeline and Hazardous Materials Safety Administration, 1200 New Jersey Avenue SE, Washington, DC 20590, Phone: 202 366-4595, Email: robert.jagger@dot.gov.

RIN: 2137-AF06

182. +Hazardous Materials: Enhanced Safety Provisions for Lithium Batteries Transported by Aircraft (FAA Reauthorization Act of 2018)

Legal Authority: 49 U.S.C. 44701; 49 U.S.C. 5103(b); 49 U.S.C. 5120(b)

Abstract: This rulemaking amends the Hazardous Materials Regulations (HMR) to (1) prohibit the transport of lithium ion cells and batteries as cargo on passenger aircraft; (2) require all lithium ion cells and batteries to be shipped at not more than a 30 percent state of charge on cargo-only aircraft; and (3) limit the use of alternative provisions for small lithium cell or battery to one package per consignment. The amendments do not restrict passengers or crew members from bringing personal items or electronic devices containing lithium cells or batteries aboard aircraft, or restrict the air transport of lithium ion cells or batteries when packed with or contained in equipment. To accommodate persons in areas potentially not serviced daily by cargo aircraft, PHMSA provides a limited exception for not more than two replacement lithium cells or batteries specifically used for medical devices to be transported by passenger aircraft and at a state of charge greater than 30 percent, under certain conditions and as approved by the Associate Administrator. This rulemaking is necessary to meet the FAA Reauthorization Act of 2018, address a safety hazard, and harmonize the HMR with emergency amendments to the 2015-2016 edition of the International Civil Aviation Organization's Technical Instructions for the Safe Transport of Dangerous Goods by Air.

Timetable:

Action | Date | FR Cite
NPRM | 03/06/19 | 84 FR 8006
Interim Final Rule | 03/06/19 | 84 FR 8006
Interim Final Rule Effective | 03/06/19
Interim Final Rule Comment Period End | 05/06/19
Final Rule | 11/00/21

Regulatory Flexibility Analysis Required: Yes.

Agency Contact: Shelby Geller, Transportation Regulations Specialist, Department of Transportation, Pipeline and Hazardous Materials Safety Administration, 1200 New Jersey Avenue SE, Washington, DC 20590, Phone: 202 366-8553, Email: shelby.geller@dot.gov.

RIN: 2137-AF20

DEPARTMENT OF TRANSPORTATION (DOT)

Pipeline and Hazardous Materials Safety Administration (PHMSA)

Long-Term Actions

183. • +Pipeline Safety: Gas Pipeline Leak Detection and Repair

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020.

Timetable:

Action | Date | FR Cite
NPRM | 05/00/22

Regulatory Flexibility Analysis Required: Yes.

Agency Contact: Sayler Palabrica, Department of Transportation, Pipeline and Hazardous Materials Safety Administration, 1200 New Jersey Avenue SE, District of Columbia, DC 20590, Phone: 202-366-0559, Email: sayler.palabrica@dot.gov.

RIN: 2137-AF51

184. • +Pipeline Safety: Pipeline Operational Status

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 04/00/23

Regulatory Flexibility Analysis Required: Yes.

Agency Contact: Ashlin Bollacker, Technical Writer, Department of Transportation, Pipeline and Hazardous Materials Safety Administration, 1200 New Jersey Avenue SE, District of Columbia, DC 20590, Phone: 202-366-4203, Email: ashlin.bollacker@dot.gov.

RIN: 2137-AF52

185. • +Pipeline Safety: Safety of Gas Distribution Pipelines

Legal Authority: 49 U.S.C. 60101 et seq.

Abstract: This rulemaking would amend the pipeline safety regulations to enhance the safety requirements for gas distribution pipelines. The proposed rule is necessary to respond to several mandates from Title II of the Protecting our Infrastructure of Pipelines and Enhancing Safety Act of 2020 (PIPES Act of 2020).

Timetable:

Action | Date | FR Cite
NPRM | 07/00/22

Regulatory Flexibility Analysis Required: Yes.

Agency Contact: Sayler Palabrica, Department of Transportation, Pipeline and Hazardous Materials Safety Administration, 1200 New Jersey Avenue SE, District of Columbia, DC 20590, Phone: 202-366-0559, Email: sayler.palabrica@dot.gov.

RIN: 2137-AF53

[FR Doc. 2021-14874 Filed 7-29-21; 8:45 am]

BILLING CODE 4910-60-P